DEPARTMENT OF COMMERCE

National Oceanic and Atmospheric Administration

RIN 0648-XA358

New England Fishery Management Council (NEFMC); Public Meeting

AGENCY: National Marine Fisheries Service (NMFS), National Oceanic and Atmospheric Administration (NOAA), Commerce.

ACTION: Notice of a public meeting.

SUMMARY: The New England Fishery Management Council (Council) will hold a 3-day meeting on Tuesday through Thursday, April 26-28, 2011, to consider actions affecting New England fisheries in the exclusive economic zone (EEZ).

DATES: The meeting will be held on Tuesday, April 26, 2011 through Thursday, April 28, 2011. The meeting will begin at 9 a.m. on Tuesday, April 26th and at 8:30 a.m. on Wednesday, April 27th and Thursday, April 28th.

ADDRESSES: The meeting will be held at the Mystic Hilton Hotel, 20 Coogan Boulevard, Mystic, CT 06355; telephone: (860) 572-0731; fax: (860) 572-0238.

Council address: New England Fishery Management Council, 50 Water Street, Mill 2, Newburyport, MA 01950; telephone: (978) 465-0492.

FOR FURTHER INFORMATION CONTACT: Paul J. Howard, Executive Director, New England Fishery Management Council; telephone: (978) 465-0492.

SUPPLEMENTARY INFORMATION:

Tuesday, April 26, 2011

Following introductions and any announcements, the Council will receive brief reports from its Chairman and Executive Director, the NOAA Fisheries Regional Administrator (Northeast Region), Northeast Fisheries Science Center and Mid-Atlantic Fishery Management Council liaisons, NOAA General Counsel, representatives of the U.S. Coast Guard and the Atlantic States Marine Fisheries Commission, as well as staff from the Vessel Monitoring Systems Operations and Law Enforcement offices. There also will be a review of any experimental fishery permit applications that have been made available for review since the January Council meeting. The Council will then receive a presentation and discuss one of its 2011 priorities, a proposed NEFMC-sponsored catch shares workshop. The discussion will include consideration and possible approval of a workshop goal and objectives. Prior to a break, Mr. Eric Schwaab, Assistant Administrator for NOAA Fisheries, will address the Council about the agency's management review of fisheries in the Northeast. The focus will be on the relationships among the NEFMC, the Northeast Regional Office, and the Northeast Fisheries Science Center and factors that affect the effectiveness of the three entities to carry out their responsibilities under fisheries law. Following a break, an open public period is scheduled for any interested party who wishes to provide brief comments on issues relevant to Council business but not otherwise listed on the meeting agenda. A representative of the Department of the Interior will summarize that agency's offshore wind initiative, including the Maine, Massachusetts, and Rhode Island Task Force efforts to date. The day will conclude on Tuesday with a report from the Council's Scientific and Statistical Committee (SSC). Items for review and discussion, along with SSC recommendations, include the following: (1) A review of the Massachusetts Fisheries Institute report Economic and Scientific Conditions in the Mass. Multispecies Groundfishery; (2) recommendations for a FSV Bigelow survey calibration method that would be used to determine skate Allowable Biological Catch (ABC) and the status of the skate complex resource; (3) guidance to the Whiting Plan Development Team on options and methods for determining ABCs for silver, red and offshore hake; and (4) a report on conclusions from a peer review panel that evaluated the NEFMC Habitat Plan Development Team's swept area seabed impact (SASI) model.

Wednesday, April 27, 2011

The second session will begin with a report from the Council's Research Steering Committee about several final cooperative research project reports, including the University of Rhode Island's “mini-eliminator trawl” project. During the Monkfish Committee report to follow, the Council will receive a briefing on the recent scoping hearings and recommendations from its Monkfish Advisory Panel, each concerning the possible development of a monkfish catch shares program. The committee also will review its discussion about the use of trip limit exemptions in the monkfish cooperative research program. The Northeast Fisheries Science Center staff will summarize its recommendations for 2011-12 observer sea-day allocations. During the afternoon, the Council will discuss and possibly modify an option in the Environmental Impact Statement for Herring Amendment 5 that would require federally-permitted fish dealers to accurately weigh all landings of herring. They also will receive the last of three briefings about ecosystem-based fisheries management by staff of the Northeast Fisheries Science Center. The Habitat Committee will summarize any recommendations from its most recent meeting, and at the end of the day, the Habitat Plan Development Team will provide an overview of the impact of the SASI model peer review on the development of the Council's Habitat Omnibus Amendment.

Thursday, April 28, 2011

The last day of the Council meeting will begin with a presentation about “management area coordination.” This will consist of an overview of the relationships between the current groundfish mortality closures and the current and proposed essential fish habitat closures, and their impact on access to fishery resources. The Council will address groundfish management for the remainder of this day. It intends to take final action on Framework Adjustment 46 to the Northeast Multispecies Fishery Management Plan (FMP), which would cap the amount of haddock the herring fleet would be allowed to take as bycatch in that fishery. The Council also may take final action on Amendment 17 to the Multispecies FMP. Amendment 17 would create a mechanism for the operation of NOAA-funded, state-operated permit banks. Other groundfish-related business items include a report on workshop planning for the purpose of examining the last year of sector operations, and a Groundfish Committee recommendation to delay further work on an amendment to consider accumulation limits in the fishery. Any other outstanding business will be discussed after the groundfish agenda items have been completed.

Although other non-emergency issues not contained in this agenda may come before this Council for discussion, those issues may not be the subjects of formal action during this meeting. Council action will be restricted to those issues specifically listed in this notice and any issues arising after publication of this notice that require emergency action under section 305(c) of the Magnuson-Stevens Act, provided that the public has been notified of the Council's intent to take final action to address the emergency.

Special Accommodations

This meeting is physically accessible to people with disabilities. Requests for sign language interpretation or other auxiliary aids should be directed to Paul J. Howard (see ADDRESSES) at least 5 days prior to the meeting date.

Dated: April 4, 2011.
Tracey L. Thompson,
Acting Director, Office of Sustainable Fisheries, National Marine Fisheries Service.

[FR Doc. 2011-8343 Filed 4-6-11; 8:45 am]

BILLING CODE 3510-22-P